INTERNATIONAL TRADE COMMISSION

[Investigation No. 337-TA-1283]

Certain Composite Baseball and Softball Bats and Components Thereof; Commission Determination Not To Review Two Initial Determinations Granting Complainant's Motion To Amend the Complaint and Notice of Investigation To Add a Respondent and Extending the Target Date for Completion of This Investigation

AGENCY: U.S. International Trade Commission.

ACTION: Notice.

SUMMARY: Notice is hereby given that the U.S. International Trade Commission (the “Commission”) has determined not to review two initial determinations (“ID”) issued by the then-presiding, former chief administrative law judge (“CALJ”) granting the complainant's motion to amend the complaint and notice of investigation to add a new respondent (Order No. 8) and extending the target date for completion of this investigation to May 2, 2023 (Order No. 9).

FOR FURTHER INFORMATION CONTACT: Carl P. Bretscher, Office of the General Counsel, U.S. International Trade Commission, 500 E Street SW, Washington, DC 20436, telephone (202) 205-2382. Copies of non-confidential documents filed in connection with this investigation may be viewed on the Commission's electronic docket system (“EDIS”) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on November 2, 2021, based on a complaint filed and supplemented by Easton Diamond Sports, LLC of Thousand Oaks, California (“Easton”). 86 FR 60468-469 (Nov. 2, 2021). The complaint alleges a violation of section 337 of the Tariff Act, as amended, 19 U.S.C. 1337, based on the importation, sale for importation, or sale in the United States after importation of certain composite baseball and softball bats and components thereof by reason of infringement of one or more asserted claims of U.S. Patent No. 6,997,826. Id. The complaint further alleges the existence of a domestic industry. Id.

The Commission's notice of investigation names Juno Athletics LLC of Aventura, Florida (“Juno”); Monsta Athletics LLC of Calimesa, California (“Monsta”); and Proton Sports Inc. of Scottsdale, Arizona as respondents. Id. at 60469. The Office of Unfair Import Investigations is not participating as a party to this investigation. Id.

On November 30, 2021, Easton moved pursuant to Commission Rule 210.14 (19 CFR 210.14) for leave to amend the complaint and notice of investigation to add TianChang Zhengmu Aluminum Co., Ltd. (“TZA”) as a respondent because TZA is allegedly [[ ]] composite softball and baseball bats and components thereof, e.g., handles and barrels. On December 9, 2021, Monsta filed a response stating that it did not oppose Easton's motion, provided the target date is extended. No other response was filed.

On December 28, 2021, the CALJ issued the first of the subject IDs (Order No. 8) granting Easton's motion on the basis that a single proceeding will promote judicial efficiency, conserve Commission's resources, and best serve the public interest. Order No. 8 at 2 (Dec. 28, 2021). The subject ID further agrees with Monsta that a two-month extension of time is appropriate, which the ALJ addressed in a separate ID. Id. at 2 n.5.

On December 29, 2021, the former CALJ issued the second of the subject IDs (Order No. 9) pursuant to Commission Rule 210.51 (19 CFR 210.51), extending the target date to May 2, 2023. Order No. 9 at 1 (Dec. 29, 2021). Order No. 9 also reschedules the evidentiary hearing to October 3-7, 2022, and the deadline for issuing the final initial determination to January 3, 2023. Id.

On January 5, 2022, Easton filed a motion to terminate TZA by withdrawing the complaint against it. Easton also moved for reconsideration of Order Nos. 8 and 9 as moot and to stay all proceedings with respect to TZA. On January 18, 2022, Monsta and Juno filed responses in opposition to Easton's motion. On January 20, Easton filed a motion for leave to file a reply to Monsta's and Juno's oppositions.

On January 5, 2022, Easton filed a petition for review and vacatur of Order Nos. 8 and 9 in view of its motion to withdraw its complaint with respect to TZA and to terminate TZA from this investigation.

On January 12, 2022, Monsta filed an opposition to Easton's petition for review. No other response to Easton's petition was filed.

Upon review of the subject ID and the parties' submissions, the Commission has determined not to review, and thereby adopts, both Order No. 8 and Order No. 9 without prejudice to Easton's pending motion to terminate the investigation with respect to TZA. The target date for completion of this investigation is hereby extended to May 2, 2023.

The Commission voted to approve this determination on January 25, 2022.

The authority for the Commission's determinations is contained in Section 337 of the Tariff Act of 1930, as amended (19 U.S.C. 1337), and in part 210 of the Commission's Rules of Practice and Procedure (19 CFR part 210).

By order of the Commission.
Issued: January 27, 2022.
Lisa Barton,
Secretary to the Commission.

[FR Doc. 2022-02056 Filed 2-1-22; 8:45 am]

BILLING CODE 7020-02-P